DEPARTMENT OF THE INTERIOR

Bureau of Land Management

[CA-610-01-1220-AA]

Meeting of the California Desert District Advisory Council

SUMMARY: Notice is hereby given, in accordance with Public Laws 92-463 and 94-579, that the California Desert District Advisory Council to the Bureau of Land Management, U.S. Department of the Interior, will participate in a field tour of the BLM-administered public lands on Friday, December 7, 2001, from 7:30 a.m to 5:30 p.m., and meet in formal session on Saturday, December 8, from 8 a.m. to 5 p.m. The Saturday meeting will be held at the Southwest Performing Arts Theatre, Southwest High School, located at 2001 Ocotillo Drive, El Centro, California. The Bureau of Land Management is publishing this notice without 15 days public notice in order to avoid any additional delays.

The Council and interested members of the public will assemble for a field tour at the parking lot of the Best Western John Jay Inn at 7:15 a.m. and depart 7:30 a.m. The Inn is located at 2352 S. 4th Street, El Centro. Tour stops will include areas within the Northern and Eastern Colorado Desert Coordinated Management planning area and the Imperial Sand Dunes Recreation Area. Presentations and discussions will focus on issues being addressed in the Draft Northern and Eastern Colorado Desert Coordinated Management Plan and Draft Northern and Eastern Mojave Plan, and development of the Draft Imperial Sand Dunes Recreation Area Resource Management Plan. The public is welcome to participate in the tour, but should plan on providing their own transportation, drinks, and lunch.

Agenda items for the Saturday Council meeting will include presentations and Council discussions regarding the Draft Northern and Eastern Colorado Desert Coordinated Management Plan and the Draft Northern and Eastern Mojave Plan, and a summary of public comments for the two draft plans, which closed November 1, 2001. The Council also will be briefed on the status of the development of the Draft Imperial Sand Dunes Recreation Area Resource Management Plan.

All Desert District Advisory Council meetings are open to the public. Time for public comment may be made available by the Council Chairman during the presentation of various agenda items, and is scheduled at the end of the meeting for topics not on the agenda.

Written comments may be filed in advance of the meeting for the California Desert District Advisory Council, c/o Bureau of Land Management, Public Affairs Office, 6221 Box Springs Boulevard, Riverside, California 92507-0714. Written comments also are accepted at the time of the meeting and, if copies are provided to the recorder, will be incorporated into the minutes.

FOR FURTHER INFORMATION CONTACT: Doran Sanchez, BLM California Desert District Public Affairs Specialist, (909) 697-5220.

Dated: November 8, 2001.
Tim Salt,
District Manager.

[FR Doc. 01-29345 Filed 11-21-01; 8:45 am]

BILLING CODE 4310-40-P